DEPARTMENT OF VETERANS AFFAIRS

West Los Angeles VA Medical Center Veterans Programs Enhancement Act of 1998; Draft Master Plan

AGENCY: Department of Veterans Affairs.

ACTION: Notice.

SUMMARY: This Federal Register Notice announces an opportunity for public comment on the West Los Angeles (WLA) Department of Veterans Affairs (VA) Medical Center Veterans Programs Enhancement Act of 1998 (VPEA) Draft Master Plan (hereinafter referred to as the “Draft Master Plan.” The purpose of this plan is to satisfy the legislative mandate of the Veterans Programs Enhancement Act of 1998 regarding “a master plan for the use of the lands * * * over the next 25 and over the next 50 years.”

DATES: Written comments on the Draft Master Plan must be received on or before February 19, 2011.

ADDRESSES: Written comments may be submitted through http://www.Regulations.gov; or by mail or hand-delivery to Director, Regulations Management (02REG), Department of Veterans Affairs, 810 Vermont Avenue, NW., Room 1068, Washington, DC 20420; or by fax to (202) 273-9026. Comments should indicate that they are submitted in response to “Notice: Draft Master Plan.” All comments received will be available for public inspection in the Office of Regulation Policy and Management, Room 1063B, between the hours of 8 a.m. and 4:30 p.m., Monday through Friday (except holidays). Call (202) 461-4902 for an appointment.

SUPPLEMENTARY INFORMATION: The mission of the VA's Veterans Health Administration (VHA) is to honor America's veterans by providing exceptional health care that improves their health and well-being. VHA implements VA's medical care, research, and education programs. The WLA campus is part of the larger VA Greater Los Angeles (GLA) Healthcare System, serving Veterans in Los Angeles, Ventura, Santa Barbara, San Luis Obispo and Kern Counties, California. The WLA campus provides a variety of medical services including inpatient and outpatient care, rehabilitation, residential care, and long-term care services. In addition, it serves as a center for medical research and education.

The WLA campus is 387 acres in the heart of Los Angeles. There are 104 buildings across the campus of which 39 are designated as historic, 12 are considered to be exceptionally high risk for a seismic event, and a number are vacant or closed. Currently, the WLA campus has 21 land use agreements, varying in length and contractual authority, with partners to deliver a variety of services to veterans and the community. This does not include several non-recurring filming and single-day event agreements.

The purpose of the Draft Master Plan is to satisfy the legislative mandate of the Veterans Programs Enhancement Act of 1998 regarding “a master plan for the use of the lands * * * over the next 25 years and over the next 50 years.” This Draft Master Plan is a land use plan that guides the physical development of the campus to support its mission of patient care, teaching, and research. The plan reflects legislative restrictions on the property and discusses developmental goals and design objectives for the campus.

The Draft Master Plan summarizes the work of previous planning studies to address future development for the portions of the land for which there is no current plan and is based on the Capital Asset Realignment for Enhanced Services (CARES) process. CARES delivered a comprehensive assessment of the campus; however, it did not deliver recommendations on land for which there is no current plan or produce a Master Plan, as needed to satisfy the legislative mandate.

The VPEA Master Plan considers on-campus services that may evolve in the future with the changing demographics of the Veteran population. It discusses current land uses, facilities, and programs in the context of the CARES approved capital plan. In addition, it outlines recommended actions for how to plan for the limited, unallocated land, and facilities in support of VA's mission.

In keeping with VA's goals to reach as many veterans as possible and to ensure that those veterans receive the services that they need the most, we have decided to make the Draft Master Plan available at http://www.losangeles.va.gov/ upon publication of this notice and invite members of the public or other interested parties to review the Draft Master Plan and to comment on it.

After the public comment period for this notice has closed, VA will make any necessary adjustments to the Draft Master Plan and publish a second notice responding to those comments.

Approved: January 13, 2011.
John R. Gingrich,
Chief of Staff, Department of Veterans Affairs.

[FR Doc. 2011-1032 Filed 1-18-11; 8:45 am]

BILLING CODE 8320-01-P